NATIONAL AERONAUTICS AND SPACE ADMINISTRATION

[Notice 00-095]

NASA Advisory Council; Meeting

AGENCY: National Aeronautics and Space Administration.

ACTION: Notice of Meeting.

SUMMARY: In accordance with the Federal Advisory Committee Act, Pub. L. 92-463, as amended, the National Aeronautics and Space Administration announces a meeting of the NASA Advisory Council.

DATES: Tuesday, September 12, 2000, 8 a.m. to 1:45 p.m.; and Wednesday, September 13, 2000, 8 a.m. to 10:30 a.m.

ADDRESSES: Ames Research Center (AMES), National Aeronautics and Space Administration, The Moffett Field Training and Conference Center, Bldg 3., Moffett Field, CA 94035-1000.

FOR FURTHER INFORMATION CONTACT: Ms. Kathy Dakon, Code Z, National Aeronautics and Space Administration, Washington, DC 20546, 202/358-0732.

SUPPLEMENTARY INFORMATION: The meeting will be open to the public up to the seating capacity of the room. The agenda for the meeting is as follows:

—Air Traffic Management Program

—Space Launch Initiative Status

—Information Systems Technology

—Committee/TaskForce/Working Group Reports

—Discussion of Findings and Recommendations

It is imperative that the meeting be held on these dates to accommodate the scheduling priorities of the key participants. Visitors will be requested to sign a visitor's register.

Dated: August 15, 2000.
Matthew M. Crouch,
Advisory Committee Management Officer, National Aeronautics and Space Administration.

[FR Doc. 00-21170 Filed 8-18-00; 8:45 am]

BILLING CODE 7510-01-P